DEPARTMENT OF ENERGY

Energy Employees Occupational Illness Compensation Program Act of 2000; Revision to List of Covered Facilities

AGENCY: Department of Energy.

ACTION: Notice of revision of listing of covered facilities.

SUMMARY: Periodically, the Department of Energy (“Department” or “DOE”) publishes a list of facilities covered under the Energy Employees Occupational Illness Compensation Program Act of 2000 (“Act”), Title 36 of Public Law 106-398 (66 FR 4003; 66 FR 31218). This Notice revises the previous lists because it has been found that some designated atomic weapons employers (AWE) should not have been so designated. Previous lists were published on November 30, 2005, August 23, 2004, July 21, 2003, December 27, 2002, June 11, 2001, and January 17, 2001.

FOR FURTHER INFORMATION CONTACT: Patricia R. Worthington, PhD, Director, Office of Health and Safety (HS-10), (301) 903-5392.

ADDRESSES: The Department welcomes comments on this Notice. Comments should be addressed to: Patricia R. Worthington, PhD, Director, Office of Health and Safety (HS-10), U.S. Department of Energy, 1000 Independence Avenue, SW., Washington, DC 20585.

SUPPLEMENTARY INFORMATION:

Purpose

The Act establishes a program to provide compensation to certain employees who developed illnesses as a result of their employment with DOE, its predecessor Agencies, and certain of its contractors and subcontractors. Section 3621 defines an AWE as an entity, other than the United States, that (a) Processed or produced, for use by the United States, material that emitted radiation and was used in the production of an atomic weapon, excluding uranium mining and milling; and (b) is designated by the Secretary of Energy as an AWE for the purposes of the compensation program. Section 3621 goes on to define an AWE facility as a facility, owned by an AWE, that is or was used to process or produce, for use by the United States, material that emitted radiation and was used in the production of an atomic weapon, excluding uranium mining or milling.

It has recently come to the attention of the Department that a number of entities previously designated as AWEs failed the basic definitional test for an AWE because the designated entities were Agencies of the U.S. Government. Since the definition of an AWE specifically excludes the United States, these previously made designations are invalid. To make it clear that these entities are not covered under the Act, this Notice formally removes the following entities from the list.

• Naval Research Laboratory, previously designated as an AWE in the District of Columbia.

• Philadelphia Navy Yard, previously designated as an AWE in Philadelphia, Pennsylvania.

• Watertown Arsenal (Building 421), previously designated as an AWE in Watertown, Massachusetts.

Issued in Washington, DC, on June 14, 2007.
Glenn S. Podonsky,
Chief Health, Safety and Security Officer,Office of Health, Safety and Security.

[FR Doc. E7-12511 Filed 6-27-07; 8:45 am]

BILLING CODE 6450-50-P